DEPARTMENT OF ENERGY

Federal Energy Regulatory Commission

Notice of Application for Amendment of License and Soliciting Comments, Motions To Intervene and Protests

July 23, 2001.

Take notice that the following hydroelectric application has been filed with the Commission and is available for public inspection:

a. Type of Application: Amendment of license.

b. Project No.: 2192-009.

c. Date Filed: June 20, 2001.

d. Applicant: Consolidated Water Power Company.

e. Name of Project: Biron Project.

f. Location: On Halladay Creek, on the Wisconsin River, near the town of Plover, Portage County, Wisconsin. The project does not utilize federal or tribal lands.

g. Filed Pursuant to: Federal Power Act 16 U.S.C. 791(a)-825(r)

h. Applicant Contact: Mr. Mark Anderson, Consolidated Water Power Company, P.O. Box 8050, Wisconsin Rapids, WI 54495-8050, (715) 422-3927.

i. FERC Contact: Michael Spencer, michael.spencer@FERC.fed.us, (202) 219-2846.

j. Deadline for filing comments, motions to intervene and protests: 60 days from the issuance date of this notice.

All documents (original and eight copies) should be filed with: David P. Boergers, Secretary Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Project: The licensee requests an amendment to its license to: (1) Transfer to the Mirant Portage County a parcel of project land containing a total of 1.0 acres for construction of a pumping facility and 36-inch-diameter intake pipe; and (2) grant an easement to the Mirant Portage County for a 7.2 million gallons per day (MGD) maximum water withdrawal rate through the facility. Of the 7.2 MGD, up to 2.0 MGD, would be returned after use, to the point of withdrawal. The water would be used for cooling purposes at the proposed combined cycle generating plant.

l. Locations of the application: A copy of the application is available for inspection and reproduction at the Commission's Public Reference Room, located at 888 First Street, NE., Room 2A, Washington, D.C. 20246, or by calling (202) 208-1371. The application may be viewed on the web at http://www.ferc.gov using the “RIMS” link-select “Docket#” and follow the instructions (call (202) 208-2222 for assistance). A copy is also available for inspection and reproduction at the address in item h. above.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Comments, protests and interventions may be filed electronically via the Internet in lieu of paper. See 18 CFR 385.2001(a)(1)(iii) and the instructions on the Commission's web site under the “e-filing” link.

David P. Boergers,
Secretary.

[FR Doc. 01-18776 Filed 7-26-01; 8:45 am]

BILLING CODE 6717-01-P